DEPARTMENT OF COMMERCE

National Oceanic and Atmospheric Administration

[I.D.033001A]

Endangered and Threatened Species; Take of Anadromous Fish

AGENCY: National Marine Fisheries Service (NMFS), National Oceanic and Atmospheric Administration (NOAA), Commerce.

ACTION: Notice of availability and request for comment.

SUMMARY: The Northwest Indian Fisheries Commission submitted a Tribal Resource Management Plan (Tribal Plan), presented by the Bureau of Indian Affairs on behalf of the Northwest Indian Tribes, pursuant to the protective regulations promulgated for Puget Sound chinook salmon under the Endangered Species Act (ESA). The Tribal Plan describes research and assessment activities that may affect listed Puget Sound chinook salmon. This document serves to notify the public of the availability for comment of the proposed evaluation of the Secretary of Commerce (Secretary) as to how the Tribal Plan addresses the criteria in the ESA.

DATES: Written comments on the Secretary’s proposed evaluation must be received at the appropriate address or fax number (see ADDRESSES) no later than 5 p.m. Pacific Standard Time on May 14, 2001.

ADDRESSES: Written comments and requests for copies of the proposed evaluation should be addressed to Leslie Schaeffer, Protected Resources Division, National Marine Fisheries Service, 525 NE Oregon Street, Portland, OR 97232-2737. Comments may also be sent via fax to 503/230-5435. Comments will not be accepted if submitted via e-mail or the Internet.

FOR FURTHER INFORMATION CONTACT: Leslie Schaeffer at phone number: 503/230-5433, or e-mail: leslie.schaeffer@noaa.gov.

SUPPLEMENTARY INFORMATION: This notice is relevant to the Puget Sound chinook salmon (Oncorhynchus tshawytscha) Evolutionarily Significant Unit (ESU).

Background

The Northwest Indian Fisheries Commission submitted a Tribal Plan, presented by the Bureau of Indian Affairs on behalf of the Northwest Indian Tribes, for scientific research and assessment activities within the range of the Puget Sound chinook salmon ESU. The Northwest Indian Tribes conduct, independently and in cooperation with other agencies, a variety of research and assessment projects. These projects provide the technical basis for fishery management and the conservation and restoration of salmon stocks and their habitat. The need for improved and more quantitative understanding of freshwater and early marine survival drives much of the current research. The Tribal Plan includes implementation, monitoring, and evaluation procedures designed to ensure the research is consistent with these objectives. The research activities described in the Tribal Plan span a 5-year period beginning on January 1, 2001.

As required by 50 CFR 223.209, the Secretary must determine whether the Tribal Plan for Puget Sound chinook salmon would appreciably reduce the likelihood of survival and recovery of the Puget Sound chinook salmon and other affected threatened ESUs. The Secretary must take comments on how the Tribal Plan addresses the criteria in § 223.209 in making that determination. Authority

Under section 4 of the ESA, the Secretary is required to adopt such regulations as he deems necessary and advisable for the conservation of the species listed as threatened. The ESA Tribal 4(d) rule (65 FR 42481, July 10, 2000) states that the ESA section 9 take prohibitions will not apply to Tribal Plans that will not appreciably reduce the likelihood of survival and recovery for the listed species.

Dated: April 6, 2001.
Phil Williams,
Acting Chief, Endangered Species Division, Office of Protected Resources, National Marine Fisheries Service.

[FR Doc. 01-9105 Filed 4-11-01; 8:45 am]

BILLING CODE 3510-22-S